OFFICE OF SCIENCE AND TECHNOLOGY POLICY

Public Input on the Triennial Update to the USGCRP Strategic Plan

ACTION: Request for public comment.

SUMMARY: The U.S. Global Change Research Program is three years into the implementation of its National Global Change Research Plan 2012-2021 (http://www.globalchange.gov/strategic-plan) hereafter called the Strategic Plan. That decadal Strategic Plan remains the continuing blueprint for USGCRP, with its strategic directions guiding the Program. There are areas, however, where the landscape has changed by virtue of significant progress, changing scientific or societal urgencies, or challenges. This Triennial Update to the Strategic Plan (hereafter simply “Update”) addresses these areas and their implications for USGCRP. In accordance with the Global Change Research Act of 1990 (Sec 104, P.L. 101-606), this public comment period invites the public to provide comments and feedback on the Update.

DATES: Public comments will be accepted through January 30, 2016.

ADDRESSES: Comments from the public may be submitted by any of the following methods:

• Electronically via http://www.globalchange.gov/notices. Instructions for submitting comments are on the Web site.

• If you are unable to submit electronically, comments may be submitted by mail to Attn: Benjamin DeAngelo, U.S. Global Change Research Program, 1800 G Street NW., Suite 9100, Washington, DC 20006. Information submitted by postal mail should allow ample time for processing.

Instructions: Response to this Request for Public Comment is voluntary. Mailed comments should be less than 10 pages. Responses to this Request for Public Comment may be posted without change online. OSTP therefore requests that no business proprietary information, copyrighted information, or personally identifiable information be submitted in response to this Request for Public Comment. Please note that the U.S. Government will not pay for response preparation, or for the use of any information contained in the response.

FOR FURTHER INFORMATION CONTACT: Benjamin DeAngelo, (202) 419-3474, bdeangelo@usgcrp.gov, U.S. Global Change Research Program.

SUPPLEMENTARY INFORMATION: Background information, additional details, and instructions for submitting comments can be found at www.globalchange.gov/notices. For more information about the Strategic Plan, please see http://www.globalchange.gov/strategic-plan.

Ted Wackler,
Deputy Chief of Staff and Assistant Director.

[FR Doc. 2015-30292 Filed 11-27-15; 8:45 am]

BILLING CODE 3270-F6-P